DEPARTMENT OF COMMERCE

International Trade Administration

[A-580-816]

Certain Corrosion-Resistant Carbon Steel Flat Products from the Republic of Korea: Notice of Rescission of Antidumping Duty Administrative Review, In Part

AGENCY: Import Administration, International Trade Administration, Department of Commerce.

SUMMARY: On September 30, 2008, the Department of Commerce (the Department) published the notice of initiation of this antidumping duty administrative review with respect to seven companies, including Dongkuk Industries Co., Ltd. (Dongkuk). Dongkuk submitted a letter to the Department stating that it had no shipments of subject merchandise to the U.S. during the period of review (POR), which was corroborated by the Department. On April 14, 2009, we published the notice of preliminary rescission of this antidumping duty administrative review with respect to Dongkuk, and invited interested parties to comment. See Certain Corrosion-Resistant Carbon Steel Flat Products from the Republic of Korea: Notice of Intent to Rescind Antidumping Duty Administrative Review, In Part, 74 FR 17159 (April 14, 2009) (Preliminary Rescision). We received no comments, and have determined that the review of Dongkuk should be rescinded. This review will remain in effect for all other companies initiated upon.

EFFECTIVE DATE: June 17, 2009.

FOR FURTHER INFORMATION CONTACT: Christopher Hargett, AD/CVD Operations, Office 3, Import Administration, International Trade Administration, U.S. Department of Commerce, 14th Street and Constitution Avenue, NW, Washington, DC 20230; telephone: (202) 482-4161.

SUPPLEMENTARY INFORMATION:

Background

On September 30, 2008, we published the Notice of Initiation of this antidumping duty administrative review with respect to Dongbu Steel Co., Ltd., Dongkuk, Haewon MSC Co., Ltd., Hyundai HYSCO, LG Chem, Ltd., Pohang Iron and Steel Co., Ltd./Pohang Coated Steel Co., Ltd., and Union Steel Manufacturing Co., Ltd., for the period August 1, 2007, through July 31, 2008. See Initiation of Antidumping and Countervailing Duty Administrative Reviews and Requests for Revocation in Part, 73 FR 56795 (September 30, 2008) (Notice of Initiation). On October 20, 2008, Dongkuk submitted a letter certifying that it had no sales of subject merchandise to the United States during the POR. See Letter from Dongkuk to the Secretary of Commerce, dated October 20, 2008. The Department used entry data placed on the record of the instant review for selection of respondents to corroborate Dongkuk's claim. See memorandum from Joy Zhang, International Trade Compliance Analyst, through James Terpstra, Program Manager, Office 3 AD/CVD Operations, and Melissa Skinner, Office Director, Office 3, AD/CVD Operations, to the File, dated October 2, 2008 (CBP Data). On December 9, 2008, the Department requested the U.S. entry documents from U.S. Customs and Border Protection for clarification of several entries. See memorandum from Melissa Skinner, Office Director, Office 3, AD/CVD Operations, to David M. Genovese, Director, AD/CVD/Revenue Policy & Programs, Office of International Trade, U.S. Customs and Border Protection, dated December 9, 2008 (Entry Documentation Request). On January 26, 2009, the Department received the requested entry documentation. See memorandum from Tom Futtner, Customs Unit, to Melissa Skinner, dated January 2, 2009 (Entry Documentation). On March 27, 2009, the Department determined that Dongkuk's claim of no shipments was corroborated using the entry documentation. See memorandum from Christopher Hargett, International Trade Compliance Analyst, Office 3, through James Terpstra, Program Manager, Office 3, to Melissa Skinner, Office Director, Office 3, Import Administration, dated March 27, 2009. On April 14, we published the Preliminary Rescission with respect to Dongkuk, and invited interested parties to comment. See Preliminary Rescission, at 17160. A complete description of the order on corrosion-resistant carbon steel flat products from Korea is contained in the Preliminary Rescission. We received no comments.

Partial Rescission of Review

Pursuant to 19 CFR 351.213(d)(3), the Department may rescind an administrative review, with respect to a particular exporter or producer, if the Secretary concludes that, during the period covered by the review, there were no entries, exports, or sales of the subject merchandise by that producer. Dongkuk submitted a letter on October 20, 2008, certifying that it did not have sales of subject merchandise to the United States during the POR. The petitioners, United States Steel Corporation, Nucor Corporation, and Mittal Steel USA ISG, Inc., did not comment on Dongkuk's no-shipment claim.

As noted, we conducted an internal customs data query on October 2, 2008, as part of the selection of respondents for individual review. See CBP Data. The data query showed several questionable entries, of which the Department requested entry documents. See Entry Documentation Request. The documentation showed that the questionable entries from the CBP data were not produced by Dongkuk. See Entry Documentation.

Based on our analysis of the shipment data, Dongkuk is a non-shipper for this review. See No Shipment Analysis. Therefore, in accordance with 19 CFR 351.213(d)(3), and consistent with our practice, we are rescinding this review with respect to Dongkuk. See, e.g., Stainless Steel Bar From India; Final Results of Antidumping Duty Administrative Review and New Shipper Review and Partial Rescission of Administrative Review, 65 FR 48965, 48966 (August 10, 2000).

Administrative Protective Order

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation. We are issuing and publishing these results and notice in accordance with sections 751(a)(1) and 777(i)(1) of the Tariff Act of 1930, as amended, and 19 CFR 351.213(d)(4).

Dated: June 11, 2009.
Ronald K. Lorentzen,
Acting Assistant Secretary for Import Administration.

[FR Doc. E9-14243 Filed 6-16-09; 8:45 am]

BILLING CODE 3510-DS-S